BUREAU OF CONSUMER FINANCIAL PROTECTION

12 CFR Part 1006

[Docket No. CFPB-2013-0033]

RIN 3170-AA41

Debt Collection (Regulation F)

AGENCY: Bureau of Consumer Financial Protection.

ACTION: Advance notice of proposed rulemaking; extension of comment period.

SUMMARY: On November 12, 2013, the Bureau of Consumer Financial Protection (the Bureau) published in the Federal Register an Advance Notice of Proposed Rulemaking about debt collection practices (Debt Collection ANPR). The Debt Collection ANPR allowed a 90-day comment period, closing on February 10, 2014. To allow interested persons more time to consider and craft their responses, the Bureau has determined that an extension of the comment period until February 28, 2014 is appropriate.

DATES: The comment period for the Debt Collection ANPR published November 12, 2013, at 78 FR 67868, is extended. Responses must now be received on or before February 28, 2014.

ADDRESSES: You may submit comments, identified by Docket No. CFPB-2013-0033 or Regulatory Identification Number (RIN) 3170-AA41, by any of the following methods:

• Electronic: http://www.regulations.gov. Follow the instructions for submitting comments.

• Mail/Hand Delivery: Monica Jackson, Office of the Executive Secretary, Bureau of Consumer Financial Protection, 1700 G Street NW., Washington, DC 20552.

Instructions: All submissions must include the agency name and docket number or RIN. Please include the question number(s) to which your comment pertains. In general, all comments received will be posted without change to http://www.regulations.gov. In addition, comments will be available for public inspection and copying at 1700 G Street NW., Washington, DC 20552, on official business days between the hours of 10 a.m. and 5 p.m. Eastern Time. You can make an appointment to inspect the documents by calling (202) 435-7275.

All comments submitted through the formal means described above, including attachments and other supporting materials, will become part of the public record and subject to public disclosure. Sensitive personal information, such as account numbers or Social Security numbers, should not be included. Comments will not be edited to remove any identifying or contact information.

E-Rulemaking Initiative: The Bureau is working with the Cornell e-Rulemaking Initiative (CeRI) on a pilot project, RegulationRoom (www.RegulationRoom.org), that uses web technologies and approaches to enhance public understanding and effective participation. This ANPR on debt collection is a focus of the project. RegulationRoom is set up to make it easier for consumers and others to understand what the Bureau is considering, to share their information, experiences, and concerns, and to discuss possible ideas and solutions. Note that RegulationRoom is not an official United States Government Web site. Although comments made on that site are not formal comments like those submitted through the means identified above, the discussion on RegulationRoom will be captured through a detailed summary, which participants will have the chance to review and suggest revisions. This summary will be filed as a formal comment on Regulations.gov. For questions about this project, please contact Whitney Patross, Counsel, Office of Regulations, at (202) 435-7700.

FOR FURTHER INFORMATION CONTACT: For general inquiries, submission process questions, or any additional information, please contact Monica Jackson, Office of the Executive Secretary, 202-435-7275.

SUPPLEMENTARY INFORMATION: On November 12, 2013, the Bureau published the Debt Collection ANPR in the Federal Register. The Debt Collection ANPR seeks comment, data and information from the public about debt collection practices.

The comment period for the Debt Collection ANPR was to close on February 10, 2014.

The Bureau has received three formal written requests from industry trade groups for an extension of the Debt Collection ANPR comment period. The request letters indicated more time would enable a higher quality response and yield greater insight to the Bureau. The Bureau has also received informal inquiries from other types of stakeholders expressing an interest in having more time to compile information in response to the ANPR.

The Bureau has carefully balanced interested persons' desire to have more time to consider the issues raised in the Debt Collection ANPR, gather data, and prepare their responses, with the fact that this is the first of what the Bureau expects to be many opportunities for public input over time. Accordingly, the Bureau is extending the period allotted for comments received pursuant to the Debt Collection ANPR. The comment period will now close on February 28, 2014.

Dated: January 6, 2014.
Richard Cordray,
Director, Bureau of Consumer Financial Protection.

[FR Doc. 2014-00453 Filed 1-13-14; 8:45 am]

BILLING CODE 4810-AM-P